Title 3—

The President

Proclamation 9329 of September 25, 2015

National Hunting and Fishing Day, 2015

By the President of the United States of America

A Proclamation

For centuries, Americans have passed down a love of hunting and fishing to their kids and grandkids, advancing our Nation's independent, pioneering spirit with each generation. To many, these sports represent centuries—old traditions—and to others, they remain a way of life that reflects the resilience of our character. On National Hunting and Fishing Day, we celebrate the ways hunters and fishers contribute to our country and our environment, and we recommit to safeguarding America's natural places for all posterity.

Conserving our forests, fields, and waterways requires the efforts of every American, and I am dedicated to ensuring our people can enjoy our natural bounties and engage in activities like fishing and hunting for decades to come. Through my Administration's America's Great Outdoors Initiative we are promoting conservation priorities and expanding access to some of our Nation's most treasured recreational spaces. I have also called on the Congress to fully fund the Land and Water Conservation Fund to further support these efforts, and tens of millions of dollars for restoration projects have been set aside as part of the “Find Your Park” campaign. Anglers and hunters of all ages enrich our communities and our environmental heritage, and these actions will help ensure our children and grandchildren are able to fish and hunt with theirs.

Hunting and fishing do not just strengthen our culture and the bonds we share—they also drive local economies across our country. These activities exemplify the crucial need for preserving our natural resources and fuel the livelihoods of many Americans. For them—and for our entire Nation—we must commit to protecting the environment that gives us so much bounty.

Today, we acknowledge the unique ways hunting and fishing fortify America, and we pledge our continuing support for those who enjoy and rely on these activities to better their communities and lives. By working together to preserve the lands on which they partake in these professions and pastimes, we can carry forward the timeless traditions of hunting and fishing for untold chapters of the American story.

NOW, THEREFORE, I, BARACK OBAMA, President of the United States of America, by virtue of the authority vested in me by the Constitution and the laws of the United States, do hereby proclaim September 26, 2015, as National Hunting and Fishing Day. I call upon all Americans to observe this day with appropriate programs and activities.

IN WITNESS WHEREOF, I have hereunto set my hand this twenty-fifth day of September, in the year of our Lord two thousand fifteen, and of the Independence of the United States of America the two hundred and fortieth.

[FR Doc. 2015-25059

Filed 9-29-15; 11:15 am]

Billing code 3295-F5-P